EXPORT-IMPORT BANK

Privacy Act of 1974; Establishment of a New System of Records

AGENCY: Export-Import Bank of the United States.

ACTION: Notice of new electronic System of Records—Financial Management System—Next Generation (FMS-NG).

SUMMARY: EXIM Bank (EXIM) proposes to add a new electronic System of Records, Financial Management System—Next Generation (FMS-NG), subject to the Privacy Act of 1974 (5 U.S.C. 522a), as amended. This notice is necessary to meet the requirements of the Privacy Act which is to publish in the Federal Register a notice of the existence and character of records maintained by the agency (5 U.S.C. 522s(e)(4)). Included in this notice is the System of Records Notice (SORN) for FMS-NG. The system is currently operational.

DATES: This action is effective without further notice on February 17th, 2020 unless comments are received that would result in a contrary determination.

ADDRESSES: Comments may be submitted electronically on www.regulations.gov or by mail to Gabriela Smith-Sherman, Chief Information Security Officer, Export-Import Bank of the United States, 811 Vermont Ave. NW, Washington, DC 20571.

FOR FURTHER INFORMATION CONTACT: For privacy questions, please contact: Gabriela Smith-Sherman, Chief Information Security Officer, Export-Import Bank of the United States, 811 Vermont Ave. NW, Washington, DC 20571.

SUPPLEMENTARY INFORMATION: The Financial Management System—Next Generation (FMS-NG) supports flexible financial accounting, control and disbursement of funds, management accounting, and financial report processes.

SYSTEM OF RECORDS NOTICE

Financial Management System—Next Generation (FMS-NG).

System Identifier:

EXIM/FMS-NG.

System Name:

Financial Management System—Next Generation (FMS-NG).

Security Classification:

Moderate.

System Location:

This electronic system is used via a web interface by EXIM staff from the Headquarters of the Export-Import Bank of the United States, 811 Vermont Avenue NW, Washington, DC 20571. The physical location and technical operation of the system is at the Amazon Web Services (AWS) facility in Northern Virginia.

Categories of Individuals covered by this system:

The FMS-NG system holds information on EXIM customers, employees, contractors, vendors, and invitational travelers who have been asked to speak at or attend a function at the request of EXIM and who are seeking reimbursements for expenses incurred.

Categories of records in the system:

FMS-NG contains information related to the financial obligations of EXIM to and from individuals and corporate entities from the point of obligation through the point of final disbursement. EXIM provides complete loan and guarantee servicing over the entire life of a credit. The FMS-NG system contains Personally Identifiable Information (PII) on EXIM employees and public individuals that incurred expenses pre-authorized for reimbursement, EXIM product applicants, contracted suppliers, and other business partners.

The following Table 1, Categories of Records lists significant data categories contained in the FMS-NG system. Only the Administrative categories may contain PII data. The Category of Bank Products is normally used by larger corporate entities and is unlikely to contain PII for sole proprietors of businesses or other individuals.

Table 1—Categories of Records in the FMS-NG System
Bank products.
Rescheduled Loan.
Project Finance Loan.
Aircraft Financing Loan.
Tied Aid Loan.
Renewable Express Loan.
Global Credit Express.
Letter of Credit for a Direct Loan.
Working Capital Guarantee.
Standard Guarantee.
Credit Guarantee Facility.
Finance Lease Guarantee.
Project Finance Guarantee.
Aircraft Finance Guarantee.
Co-Financing Guarantee.
Renewable Express Guarantee.
Supply Chain Guarantee.
Administrative records.
Budget based on object class and fund segment.
Procurement purchase order.
Inter-Agency Agreements.
Payments to Administrative Suppliers.
Procurement Card.
Travel purchase order.
Payment Vouchers.
Refunds.
Sponsored Travel.
Petty Cash.
Employee Debt.
Conference fee collections.
General Ledger.

Table 2—Representative PII Data Elements Within Administrative Records
PII Data elements
Bank products:
ACCOUNT_HOLDER_NAME.
ACCTTYPEID.
ADDRESSID.
BANK_ACCOUNT_NAME.
BANKACCOUNTID.
BANKSWIFTCODE.
BRANCHID.
BRANCHNAME.
CHECK_DIGITS.
PARENT_VENDOR_ID.
PARENT_VENDOR_NAME.
TAX_ID.
VENDOR_ID.
VENDOR_NAME.
VENDOR_NAME_ALT.
VENDOR_NUMBER.

Authority for maintenance of the system:

EXIM requests the information in this application under the following authorizations:

Authority of the Export-Import Bank Act of 1945, as amended (12 U.S.C. 635 et seq.), Executive Order 9397 as amended by Executive Order 13478 signed by President George W. Bush on November 18, 2008, relating to Federal agency use of Social Security Numbers.

Purpose:

The Financial Management System—Next Generation (FMS-NG) is a custom configured Commercial-off-the-Shelf (COTS) solution, which supports flexible financial accounting, control and disbursement of funds, management accounting, loan and guarantee servicing, and financial report processes. More specifically, FMS-NG maintains EXIM's spending budget, supports purchase of goods and services, vendor payments, records general ledger entries, reports to Department of Treasury and the Office of Management and Budget (OMB), verifies data accuracy, properly clears and closes ledgers and journals, and provides complete loan and guarantee servicing over the entire life of a credit.

FMS-NG is comprised of the following functional modules:

• Budget Execution,

• Accounts Payable,

• Accounts Receivable,

• General Ledger,

• Purchasing, and

• Processing of loans and guarantees related financial data.

Routine Uses of Records Maintained in the System; Including Categories of Users and the Purposes of Such Uses:

In addition to those disclosures that are generally permitted under 5 U.S.C. 552a(b) of the Privacy Act, all or a portion of the records or information contained in this system may be disclosed to authorized entities, as is determined to be relevant and necessary, outside EXIM as a routine use pursuant to 5 U.S.C. 552a(b)(3) as follows:

a. For the Bank employees to support purchase of goods and services;

b. For the Bank employees to support vendor payments;

c. To disclose information for audits and oversight purposes performed by EXIM employees, report to the Department of Treasury and the Office of Management and Budget in Monthly, Quarterly, Semi-annual, and Annual reporting;

d. To provide information to a Congressional Office from the record of an individual in response to an inquiry from that Office;

e. To share data with contractors, grantees, and experts to perform Office of Personnel Management (OPM) authorized activities, including performing and monitoring of select business transactions;

f. For investigations of potential violations of law;

g. For EXIM employees to collect information from third parties including credit reporting agencies and to collect credit scores to establish credit worthiness of applicants;

h. To disclose information to EXIM contractors in support of EXIM authorized activities;

i. For litigation;

j. By National Archives and Records Administration for record management inspections in its role as Archivist;

k. For data breach and mitigation response.

l. To disclose pertinent information to the appropriate Federal, State, or local agency responsible for investigating, prosecuting, enforcing, or implementing a statute, rule, regulation or another purpose, when the disclosing agency becomes aware of an indication of a violation or potential violation of civil or criminal law or regulations.

Disclosure to consumer reporting agencies:

EXIM may report its credit experience to the applicable commercial consumer reporting agencies (credit bureaus), such as: Dun & Bradstreet, FICO, and TransUnion.

Storage:

The records reside in the data tables of the FMS-NG System implemented in the Oracle® U.S. Federal Financials Release 12, a COTS Financial Management System from Oracle Corporation.

Retrievability:

Information may be retrieved by transaction number, business entity name or individual name and EIN.

Safeguards:

Information will be stored in electronic format within the FMS-NG. FMS-NG has configurable responsibilities-based (processes and data) user access rules. User access is granted only to the authorized internal users. The authorized FMS-NG users will have restricted access only to the data subset necessary to perform their job function. This access is managed via Oracle Application System Administration, User and Responsibility security functions. FMS-NG underlying application—Oracle Federal Financials, is compliant with the Federal Risk and Authorization Management Program (FedRAMP). The PII information in FMS-NG is stored encrypted in place. HTTPS protocol is employed in accessing FMS-NG.

Retention and Disposal:

Retention and disposal of the records contained in FMS-NG complies with EXIM's Record Schedule for FMS-NG Electronic Records System DAA-0275-2014-0002. The schedule was proposed for approval by EXIM in the Electronic Records Archives (ERA) system of the National Archives and Records Administration (NARA).

System Manager and Address:

Vice President—Controller Office of the CFO, Export-Import Bank of the United States, 811 Vermont Ave. NW, Washington, DC 20571.

Notification Procedure:

Individuals wishing to determine whether this system of records contains information about them may do so by writing to:

Vice President—Controller Office of the CFO, Export-Import Bank of the United States, 811 Vermont Ave. NW, Washington, DC 20571.

And provide the following information:

1. Name.

2. Tax ID, as applicable.

3. Type of information requested.

4. Address to which the information should be sent.

5. Signature.

Record access procedure:

Individuals wishing to make an amendment of records about them should write to:

Vice President—Controller Office of the CFO, Export-Import Bank of the United States, 811 Vermont Ave. NW, Washington, DC 20571.

And provide the following information:

1. Name.

2. Tax ID, as applicable.

3. Type of information to be amended.

4. Signature.

Contesting record procedures:

Individuals wishing to contest records about them should write to:

Vice President—Controller Office of the CFO, Export-Import Bank of the United States, 811 Vermont Ave. NW, Washington, DC 20571.

And provide the following information:

1. Name.

2. Tax ID, as applicable.

3. Signature.

4. Precise identification of the information to be contested.

Record Source Categories:

The record information contained in the FMS-NG is obtained using one of two methods: Manual entry, and through data consumption from source flat files imported after validating data with business rules using PLSQL procedural upload to the FMS-NG database.

Exemptions claimed for the system:

None.

Bassam Doughman,
IT Specialist.

[FR Doc. 2020-00820 Filed 1-17-20; 8:45 am]

BILLING CODE 6690-01-P